DEPARTMENT OF THE TREASURY

31 CFR Part 1

Departmental Offices; Privacy Act of 1974; Implementation

AGENCY: Department of the Treasury.

ACTION: Final Rule.

SUMMARY: The Department of the Treasury is amending its Privacy Act exemption rules that were first published on October 2, 1975, to consolidate the regulations issued pursuant to 5 U.S.C. 552a(j) and (k) which exempt one or more systems of records established on behalf of each bureau by the Department.

EFFECTIVE DATE: November 21, 2000.

ADDRESSES: Inquiries may be addressed to Department of the Treasury, Disclosure Services, Washington, DC 22020.

FOR FURTHER INFORMATION CONTACT: Dale Underwood, Deputy Assistant Director, Disclosure Services, (202) 622-0930.

SUPPLEMENTARY INFORMATION: The Privacy Act of 1974, as amended, 5 U.S.C. 552a, authorizes the head of the agency to promulgate rules in accordance with the Administrative Procedure Act to exempt Privacy Act systems of records from certain provisions of the Privacy Act, if the system of records contains records which fall within 5 U.S.C. 552a(j) and/or (k).

The Department is amending this part to consolidate the regulations issued pursuant to 5 U.S.C. 552a(j)and (k) which exempt one or more systems of records established on behalf of each bureau by the Department. The amendment will revise the format of the regulations; more clearly reflect the organization of the Department; remove redundant language; reduce the length of the regulations; permit readers to use the regulations in an easier manner; change the system number and or title to several systems of records, and references to systems of records which have been deleted are being removed.

The regulations were first published at 40 FR 45692, October 2, 1975, and amended at:

44 FR 7141, February 6, 1979;

44 FR 42189, July 19, 1979;

45 FR 13455, February 29, 1980;

48 FR 21945, May 16, 1983;

48 FR 48460, October 19, 1983;

52 FR 11990, April 14, 1987;

56 FR 12447, March 26, 1991;

59 FR 47538, September 16, 1994;

61 FR 387, January 5, 1996;

62 FR 19505, April 22, 1997;

62 FR 26939, May 16, 1997;

62 FR 58908, October 31, 1997;

62 FR 60782, November 13, 1997;

64 FR 62585, November 17,1999;

64 FR 62586, November 17,1999; and

65 FR 56791, September 20, 2000.

No new systems of records are being exempted pursuant to this rule, nor is an exemption being added to any of the systems of records listed below.

The rule will update the regulations by removing references to the following systems of records which have been deleted from the Department's inventory of systems of records:

(1) Comptroller of the Currency: CC .010—Federal Bureau of Investigation Report Card Index (published March 1, 1988, at 53 FR 6252);

(2) U.S. Customs Service: CS .037—Cargo Security File (published April 17, 1992, at 57 FR 13900);

(3) U.S. Customs Service: CS .287—Customs Automated Licensing Information System (CALIS) (published April 17, 1992, at 57 FR 13900);

(4) Internal Revenue Service: IRS 90.014—Management Files Maintained by Operations Division and the Deputy Chief Counsel Other than the Office of Personnel Management's Official Personnel Files (published April 17, 1992, at 57 FR 13900);

(5) U.S. Mint: Mint .006—Examination Reports of Coins Forwarded to the Mint from the U.S. Secret Service, (published May 11, 1994, at 59 FR 5206);

(6) U.S. Customs Service: CS .182—Penalty Case File (published November 9, 1995, at 60 FR 56648);

(7) U.S. Customs Service: CS .140—Lookout Notice (published March 1, 1998, at 53 FR 6252);

(8) U.S. Customs Service: CS .155—Narcotics Suspect File (Published March 1, 1998, at 53 FR 6252);

(9) Internal Revenue Service: IRS 34.018—Integrated Data Retrieval System (IDRS) Security Files (Published November 17, 1998, at 63 FR 64141);

(10) U.S. Customs Service: CS .014—Advice Requests (Legal) (Pacific Region) (published December 17, 1998, at 63 FR 69716); and

(11) U.S. Customs Service: CS .078—Disclosure of Information File (published December 3, 1999, at 64 FR 67966).

The Department published final rules exempting Treasury/IRS 34.037—IRS Audit Trail and Security Records System on September 20, 2000, at 65 FR 56791, Treasury/IRS 34.020—IRS Audit Trail Lead Analysis System on November 17, 1999, at 64 FR 62586, and Treasury/Customs .213—Seized Asset and Case Tracking System (SEACATS) on November 17, 1999, at 64 FR 62585. The amendments are included as part of the revision.

This rule makes changes to the title of the following systems of records identified in the rule: (1) Departmental Offices—DO .144 from “Treasury Interagency Automated Litigation System (TRIALS)” to “General Counsel Litigation Referral and Reporting System,” (2) Bureau of Engraving and Printing—BEP .021 from “Security Investigative Files” to “Investigative Files.”

The rule moves the exemption regulation pertaining to “Bank Secrecy Act Reports File—Treasury/Customs .067,” from under the heading “United States Customs Service” and inserts it under the heading “Departmental Offices.” The system of records associated with this activity, “Bank Secrecy Act Reports System—Treasury/DO .213,” was transferred to the Financial Crimes Enforcement Network (FinCEN) on January 10, 1997 (62 FR 1489). The exemption regulations for the above system of records is being moved within this section to reflect that the responsibility for the system has been moved within the Department.

The IRS Restructuring and Reform Act of 1998 included specific provisions impacting the Internal Revenue Service by transferring the responsibility to conduct personnel security investigations formerly performed by Office of the Chief Inspector to the Assistant Commissioner (Support Services). A notice was published on June 15, 1999, at 64 FR 32096 to amend Treasury/IRS 60.008—Security, Background, and Character Investigation Files, Inspection, and Treasury/IRS 60.011—Internal Security Management Information System (ISMIS) by renumbering and renaming them to “Treasury/IRS 34.021—Personnel Security Investigations, National Background Investigations Center,” and “Treasury/IRS 34.022—National Background Investigations Center Management Information System (NBICMIS).” Exemptions have been claimed under 5 U.S.C. 552a(k)(5), and 5 U.S.C. 552a(j)(2) respectively. This rule will make the above changes under the appropriate exemption.

These regulations are being published as a final rule because the amendment does not impose any requirements on any member of the public. This amendment is the most efficient means for the Treasury Department to implement its internal requirements for complying with the Privacy Act.

Accordingly, pursuant to the administrative procedure provisions in 5 U.S.C. 553, the Department of the Treasury finds good cause that prior notice and other public procedure with respect to this rule are impracticable and unnecessary and finds good cause for making this rule effective on the date of publication in the Federal Register.

In accordance with Executive Order 12866, it has been determined that this rule is not a “significant regulatory action” and, therefore, does not require a Regulatory Impact Analysis.

The regulation will not have a substantial direct effect on the States, on the relationship between the national Government and the States, or on the distribution of power and responsibilities among the various levels of government. Therefore, it is determined that this final rule does not have federalism implications under Executive Order 13132.

Because no notice of proposed rulemaking is required, the provisions of the Regulatory Flexibility Act (5 U.S.C. 601 et seq.) do not apply.

In accordance with the provisions of the Paperwork Reduction Act of 1995 (44 U.S.C. 3501 et seq.), the Department of the Treasury has determined that this rule will not impose new record-keeping, application, reporting, or other types of information collection requirements.

Dated: October 17, 2000.
W. Earl Wright, Jr.,
Chief Management and Administrative Programs Officer.

List of Subjects in 31 CFR Part 1

Privacy.

Part 1 of title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. Section 1.36 of subpart C is revised to read as follows:

§ 1.36 Systems exempt in whole or in part from provisions of 5 U.S.C. 552a and this part.

(a) In General. In accordance with 5 U.S.C. 552a(j) and (k) and § 1.23(c), the Department of the Treasury hereby exempts the systems of records identified below from the following provisions of the Privacy Act for the reasons indicated.

(b) Authority. These rules are promulgated pursuant to the authority vested in the Secretary of the Treasury by 5 U.S.C. 552a(j) and (k) and pursuant to the authority of § 123(c).

(c) General exemptions under 5 U.S.C. 552a(j)(2). (1) Under 5 U.S.C. 552a(j)(2), the head of any agency may promulgate rules to exempt any system of records within the agency from certain provisions of the Privacy Act of 1974 if the agency or component thereof that maintains the system performs as its principal function any activities pertaining to the enforcement of criminal laws. Certain components of the Department of the Treasury have as their principal function activities pertaining to the enforcement of criminal laws and protective service activities which are necessary to assure the safety of individuals protected by the Department pursuant to the provisions of 18 U.S.C. 3056. This paragraph applies to the following systems of records maintained by the Department of the Treasury:

(i) Departmental Offices:

Number | System name
DO .190 | General Allegations and Investigative Records.
DO .200 | FinCEN Database.
DO .212 | Bank Secrecy Act Reports System.

(ii) Bureau of Alcohol, Tobacco and Firearms:

Number | System name
ATF .003 | Criminal Investigation Report System.

(iii) Comptroller of the Currency:

Number | System name
CC .013 | Enforcement and Compliance Information.
CC .500 | Chief Counsel's Management Information System.

(iv) U.S. Customs Service:

Number | System name
CS .053 | Confidential Source Identification File.
CS .127 | Internal Affairs Records System.
CS .129 | Investigations Record System.
CS .171 | Pacific Basin Reporting Network.
CS .244 | Treasury Enforcement Communications System (TECS).
CS .270 | Background-Record File of Non-Customs Employees.
CS .285 | Automated Index to Central Enforcement Files.

(v) Bureau of Engraving and Printing.

(vi) Federal Law Enforcement Training Center.

(vii) Financial Management Service.

(viii) Internal Revenue Service:

Number | System name
IRS 34.022 | National Background Investigations Center Management Information System (NBICMIS).
IRS 46.002 | Case Management and Time Reporting System, Criminal Investigation Division.
IRS 46.003 | Confidential Informants, Criminal Investigation Division.
IRS 46.005 | Electronic Surveillance Files, Criminal Investigation Division.
IRS 46.009 | Centralized Evaluation and Processing of Information Items (CEPIIs), Criminal Investigation Division.
IRS 46.015 | Relocated Witnesses, Criminal Investigation Division.
IRS 46.016 | Secret Service Details, Criminal Investigation Division.
IRS 46.022 | Treasury Enforcement Communications System (TECS).
IRS 46.050 | Automated Information Analysis System.
IRS 60.001 | Assault and Threat Investigation Files.
IRS 60.002 | Bribery Investigation Files.
IRS 60.004 | Disclosure Investigation Files.
IRS 90.001 | Chief Counsel Criminal Tax Case Files.

(ix) U.S. Mint

(x) Bureau of the Public Debt

(xi) U.S. Secret Service:

Number | System name
USSS .003 | Criminal Investigation Information System.
USSS .006 | Non-Criminal Investigation Information System.
USSS .007 | Protection Information System.

(xii) Office of Thrift Supervision:

Number | System name
OTS .001 | Confidential Individual Information System.
OTS .004 | Criminal Referral Database

(2) The Department hereby exempts the systems of records listed in paragraphs (c)(1)(i) through (xii) of this section from the following provisions of 5 U.S.C. 552a, pursuant to 5 U.S.C. 552a(j)(2): 5 U.S.C. 552a(c)(3) and (4), 5 U.S.C. 552a(d)(1), (2), (3), (4), 5 U.S.C. 552a(e)(1), (2) and (3), 5 U.S.C. 552a(e)(4)(G), (H), and (I), 5 U.S.C. 552a(e)(5) and (8), 5 U.S.C. 552a(f), and 5 U.S.C. 552a(g).

(d) Reasons for exemptions under 5 U.S.C. 552a(j)(2). (1) 5 U.S.C. 552a(e)(4)(G) and (f)(l) enable individuals to inquire whether a system of records contains records pertaining to them. Application of these provisions to the systems of records would give individuals an opportunity to learn whether they have been identified as suspects or subjects of investigation. As further described in the following paragraph, access to such knowledge would impair the Department's ability to carry out its mission, since individuals could:

(i) Take steps to avoid detection;

(ii) Inform associates that an investigation is in progress;

(iii) Learn the nature of the investigation;

(iv) Learn whether they are only suspects or identified as law violators;

(v) Begin, continue, or resume illegal conduct upon learning that they are not identified in the system of records; or

(vi) Destroy evidence needed to prove the violation.

(2) 5 U.S.C. 552a(d)(1), (e)(4)(H) and (f)(2), (3) and (5) grant individuals access to records pertaining to them. The application of these provisions to the systems of records would compromise the Department's ability to provide useful tactical and strategic information to law enforcement agencies.

(i) Permitting access to records contained in the systems of records would provide individuals with information concerning the nature of any current investigations and would enable them to avoid detection or apprehension by:

(A) Discovering the facts that would form the basis for their arrest;

(B) Enabling them to destroy or alter evidence of criminal conduct that would form the basis for their arrest; and

(C) Using knowledge that criminal investigators had reason to believe that a crime was about to be committed, to delay the commission of the crime or commit it at a location that might not be under surveillance.

(ii) Permitting access to either on-going or closed investigative files would also reveal investigative techniques and procedures, the knowledge of which could enable individuals planning crimes to structure their operations so as to avoid detection or apprehension.

(iii) Permitting access to investigative files and records could, moreover, disclose the identity of confidential sources and informers and the nature of the information supplied and thereby endanger the physical safety of those sources by exposing them to possible reprisals for having provided the information. Confidential sources and informers might refuse to provide criminal investigators with valuable information unless they believed that their identities would not be revealed through disclosure of their names or the nature of the information they supplied. Loss of access to such sources would seriously impair the Department's ability to carry out its mandate.

(iv) Furthermore, providing access to records contained in the systems of records could reveal the identities of undercover law enforcement officers who compiled information regarding the individual's criminal activities and thereby endanger the physical safety of those undercover officers or their families by exposing them to possible reprisals.

(v) By compromising the law enforcement value of the systems of records for the reasons outlined in paragraphs (d)(2)(i) through (iv) of this section, permitting access in keeping with these provisions would discourage other law enforcement and regulatory agencies, foreign and domestic, from freely sharing information with the Department and thus would restrict the Department's access to information necessary to accomplish its mission most effectively.

(vi) Limitation on access to the material contained in the protective intelligence files is considered necessary to the preservation of the utility of intelligence files and in safeguarding those persons the Department is authorized to protect. Access to the protective intelligence files could adversely affect the quality of information available to the Department; compromise confidential sources, hinder the ability of the Department to keep track of persons of protective interest; and interfere with the Department's protective intelligence activities by individuals gaining access to protective intelligence files.

(vii) Many of the persons on whom records are maintained in the protective intelligence suffer from mental aberrations. Knowledge of their condition and progress comes from authorities, family members and witnesses. Many times this information comes to the Department as a result of two party conversations where it would be impossible to hide the identity of informants. Sources of information must be developed, questions asked and answers recorded. Trust must be extended and guarantees of confidentiality and anonymity must be maintained. Allowing access to information of this kind to individuals who are the subjects of protective interest may well lead to violence directed against an informant by a mentally disturbed individual.

(viii) Finally, the dissemination of certain information that the Department may maintain in the systems of records is restricted by law.

(3) 5 U.S.C. 552a(d)(2), (3) and (4), (e)(4)(H), and (f)(4) permit an individual to request amendment of a record pertaining to him or her and require the agency either to amend the record, or to note the disputed portion of the record and to provide a copy of the individual's statement of disagreement with the agency's refusal to amend a record to persons or other agencies to whom the record is thereafter disclosed. Since these provisions depend on the individual's having access to his or her records, and since these rules exempt the systems of records from the provisions of 5 U.S.C. 552a relating to access to records, for the reasons set out in paragraph (d)(2) of this section, these provisions should not apply to the systems of records.

(4) 5 U.S.C. 552a(c)(3) requires an agency to make accountings of disclosures of a record available to the individual named in the record upon his or her request. The accountings must state the date, nature, and purpose of each disclosure of the record and the name and address of the recipient.

(i) The application of this provision would impair the ability of law enforcement agencies outside the Department of the Treasury to make effective use of information provided by the Department. Making accountings of disclosures available to the subjects of an investigation would alert them to the fact that another agency is conducting an investigation into their criminal activities and could reveal the geographic location of the other agency's investigation, the nature and purpose of that investigation, and the dates on which that investigation was active. Violators possessing such knowledge would be able to take measures to avoid detection or apprehension by altering their operations, by transferring their criminal activities to other geographical areas, or by destroying or concealing evidence that would form the basis for arrest. In the case of a delinquent account, such release might enable the subject of the investigation to dissipate assets before levy.

(ii) Moreover, providing accountings to the subjects of investigations would alert them to the fact that the Department has information regarding their criminal activities and could inform them of the general nature of that information. Access to such information could reveal the operation of the Department's information-gathering and analysis systems and permit violators to take steps to avoid detection or apprehension.

(iii) The release of such information to the subject of a protective intelligence file would provide significant information concerning the nature of an investigation, and could result in impeding or compromising the efforts of Department personnel to detect persons suspected of criminal activities or to collect information necessary for the proper evaluation of persons considered to be of protective interest.

(5) 5 U.S.C. 552(c)(4) requires an agency to inform any person or other agency about any correction or notation of dispute that the agency made in accordance with 5 U.S.C. 552a(d) to any record that the agency disclosed to the person or agency if an accounting of the disclosure was made. Since this provision depends on an individual's having access to and an opportunity to request amendment of records pertaining to him or her, and since these rules exempt the systems of records from the provisions of 5 U.S.C. 552a relating to access to and amendment of records, for the reasons set out in paragraph (f)(3) of this section, this provision should not apply to the systems of records.

(6) 5 U.S.C. 552a(e)(4)(I) requires an agency to publish a general notice listing the categories of sources for information contained in a system of records. The application of this provision to the systems of records could compromise the Department's ability to provide useful information to law enforcement agencies, since revealing sources for the information could:

(i) Disclose investigative techniques and procedures;

(ii) Result in threats or reprisals against informers by the subjects of investigations; and

(iii) Cause informers to refuse to give full information to criminal investigators for fear of having their identities as sources disclosed.

(7) 5 U.S.C. 552a(e)(1) requires an agency to maintain in its records only such information about an individual as is relevant and necessary to accomplish a purpose of the agency required to be accomplished by statute or executive order. The term “maintain,” as defined in 5 U.S.C. 552a(a)(3), includes “collect” and “disseminate.” The application of this provision to the systems of records could impair the Department's ability to collect and disseminate valuable law enforcement information.

(i) At the time that the Department collects information, it often lacks sufficient time to determine whether the information is relevant and necessary to accomplish a Treasury Department purpose.

(ii) In many cases, especially in the early stages of investigation, it may be impossible to immediately determine whether information collected is relevant and necessary, and information that initially appears irrelevant and unnecessary often may, upon further evaluation or upon collation with information developed subsequently, prove particularly relevant to a law enforcement program.

(iii) Compliance with the records maintenance criteria listed in the foregoing provision would require the periodic up-dating of the Department's protective intelligence files to insure that the records maintained in the system remain timely and complete.

(iv) Not all violations of law discovered by the Department fall within the investigative jurisdiction of the Department of the Treasury. To promote effective law enforcement, the Department will have to disclose such violations to other law enforcement agencies, including State, local and foreign agencies, that have jurisdiction over the offenses to which the information relates. Otherwise, the Department might be placed in the position of having to ignore information relating to violations of law not within the jurisdiction of the Department of the Treasury when that information comes to the Department's attention during the collation and analysis of information in its records.

(8) 5 U.S.C. 552a(e)(2) requires an agency to collect information to the greatest extent practicable directly from the subject individual when the information may result in adverse determinations about an individual's rights, benefits, and privileges under Federal programs. The application of this provision to the systems of records would impair the Department's ability to collate, analyze, and disseminate investigative, intelligence, and enforcement information.

(i) Most information collected about an individual under criminal investigation is obtained from third parties, such as witnesses and informants. It is usually not feasible to rely upon the subject of the investigation as a source for information regarding his criminal activities.

(ii) An attempt to obtain information from the subject of a criminal investigation will often alert that individual to the existence of an investigation, thereby affording the individual an opportunity to attempt to conceal his criminal activities so as to avoid apprehension.

(iii) In certain instances, the subject of a criminal investigation is not required to supply information to criminal investigators as a matter of legal duty.

(iv) During criminal investigations it is often a matter of sound investigative procedure to obtain information from a variety of sources to verify information already obtained.

(9) 5 U.S.C. 552a(e)(3) requires an agency to inform each individual whom it asks to supply information, on the form that it uses to collect the information or on a separate form that the individual can retain, of the agency's authority for soliciting the information; whether disclosure of information is voluntary or mandatory; the principal purposes for which the agency will use the information; the routine uses that may be made of the information; and the effects on the individual of not providing all or part of the information. The systems of records should be exempted from this provision to avoid impairing the Department's ability to collect and collate investigative, intelligence, and enforcement data.

(i) Confidential sources or undercover law enforcement officers often obtain information under circumstances in which it is necessary to keep the true purpose of their actions secret so as not to let the subject of the investigation or his or her associates know that a criminal investigation is in progress.

(ii) If it became known that the undercover officer was assisting in a criminal investigation, that officer's physical safety could be endangered through reprisal, and that officer may not be able to continue working on the investigation.

(iii) Individuals often feel inhibited in talking to a person representing a criminal law enforcement agency but are willing to talk to a confidential source or undercover officer whom they believe not to be involved in law enforcement activities.

(iv) Providing a confidential source of information with written evidence that he or she was a source, as required by this provision, could increase the likelihood that the source of information would be subject to retaliation by the subject of the investigation.

(v) Individuals may be contacted during preliminary information gathering, surveys, or compliance projects concerning the administration of the internal revenue laws before any individual is identified as the subject of an investigation. Informing the individual of the matters required by this provision would impede or compromise subsequent investigations.

(vi) Finally, application of this provision could result in an unwarranted invasion of the personal privacy of the subject of the criminal investigation, particularly where further investigation reveals that the subject was not involved in any criminal activity.

(10) 5 U.S.C. 552a(e)(5) requires an agency to maintain all records it uses in making any determination about any individual with such accuracy, relevance, timeliness, and completeness as is reasonably necessary to assure fairness to the individual in the determination.

(i) Since 5 U.S.C. 552a(a)(3) defines “maintain” to include “collect” and “disseminate,” application of this provision to the systems of records would hinder the initial collection of any information that could not, at the moment of collection, be determined to be accurate, relevant, timely, and complete. Similarly, application of this provision would seriously restrict the Department's ability to disseminate information pertaining to a possible violation of law to law enforcement and regulatory agencies. In collecting information during a criminal investigation, it is often impossible or unfeasible to determine accuracy, relevance, timeliness, or completeness prior to collection of the information. In disseminating information to law enforcement and regulatory agencies, it is often impossible to determine accuracy, relevance, timeliness, or completeness prior to dissemination, because the Department may not have the expertise with which to make such determinations.

(ii) Information that may initially appear inaccurate, irrelevant, untimely, or incomplete may, when collated and analyzed with other available information, become more pertinent as an investigation progresses. In addition, application of this provision could seriously impede criminal investigators and intelligence analysts in the exercise of their judgment in reporting results obtained during criminal investigations.

(iii) Compliance with the records maintenance criteria listed in the foregoing provision would require the periodic up-dating of the Department's protective intelligence files to insure that the records maintained in the system remain timely and complete.

(11) 5 U.S.C. 552a(e)(8) requires an agency to make reasonable efforts to serve notice on an individual when the agency makes any record on the individual available to any person under compulsory legal process, when such process becomes a matter of public record. The systems of records should be exempted from this provision to avoid revealing investigative techniques and procedures outlined in those records and to prevent revelation of the existence of an ongoing investigation where there is need to keep the existence of the investigation secret.

(12) 5 U.S.C. 552a(g) provides for civil remedies to an individual when an agency wrongfully refuses to amend a record or to review a request for amendment, when an agency wrongfully refuses to grant access to a record, when an agency fails to maintain accurate, relevant, timely, and complete records which are used to make a determination adverse to the individual, and when an agency fails to comply with any other provision of 5 U.S.C. 552a so as to adversely affect the individual. The systems of records should be exempted from this provision to the extent that the civil remedies may relate to provisions of 5 U.S.C. 552a from which these rules exempt the systems of records, since there should be no civil remedies for failure to comply with provisions from which the Department is exempted. Exemption from this provision will also protect the Department from baseless civil court actions that might hamper its ability to collate, analyze, and disseminate investigative, intelligence, and law enforcement data.

(e) Specific exemptions under 5 U.S.C. 552a(k)(1). (1) Under 5 U.S.C. 552a(k)(1), the head of any agency may promulgate rules to exempt any system of records within the agency from certain provisions of the Privacy Act of 1974 to the extent that the system contains information subject to the provisions of 5 U.S.C. 552(b)(1). This paragraph applies to the following system of records maintained by the Department of the Treasury:

Departmental Offices:

Number | System name
DO .200 | FinCEN Database.

(2) The Department of the Treasury hereby exempts the system of records listed in paragraph (e)(1) of this section from the following provisions of 5 U.S.C. 552a, pursuant to 5 U.S.C. 552a(k)(1): 5 U.S.C. 552a(c)(3), 5 U.S.C. 552a(d)(1), (2), (3) and (4), 5 U.S.C. 552a(e)(1), 5 U.S.C. 552a(e)(4)(G), (H), and (I), and 5 U.S.C. 552a(f).

(f) Reasons for exemptions under 5 U.S.C. 552a(k)(1). The reason for invoking the exemption is to protect material required to be kept secret in the interest of national defense or foreign policy pursuant to Executive Order 12958 (or successor or prior Executive Order).

(g) Specific exemptions under 5 U.S.C. 552a(k)(2). (1) Under 5 U.S.C. 552a(k)(2), the head of any agency may promulgate rules to exempt any system of records within the agency from certain provisions of the Privacy Act of 1974 if the system is investigatory material compiled for law enforcement purposes and for the purposes of assuring the safety of individuals protected by the Department pursuant to the provisions of 18 U.S.C. 3056. This paragraph applies to the following systems of records maintained by the Department of the Treasury:

(i) Departmental Offices:

Number | System name
DO .114 | Foreign Assets Control Enforcement Records.
DO .144 | General Counsel Litigation Referral and Reporting System.
DO .190 | General Allegations and Investigative File.
DO .200 | FinCEN Database.
DO .213 | Bank Secrecy Act Reports System.

(ii) Bureau of Alcohol, Tobacco and Firearms:

Number | System name
ATF .006 | Internal Security Record System.
ATF .008 | Regulatory Enforcement Record System.
ATF .009 | Technical and Scientific Services Record System.

(iii) Comptroller of the Currency

Number | System name
CC .013 | Enforcement and Compliance Information.
CC .500 | Chief Counsel's Management Information System.

(iv) U.S. Customs Service:

Number | System name
CS .021 | Arrest/Seizure/Search Report and Notice of Penalty File.
CS .022 | Attorney Case File.
CS .041 | Cartmen or Lightermen.
CS .043 | Case Files (Associate Chief Counsel—Gulf Custom Management Center).
CS .046 | Claims Case File.
CS .053 | Confidential Source Identification File.
CS .057 | Container Station Operator Files.
CS .058 | Cooperating Individual Files.
CS .061 | Court Case File.
CS .069 | Customhouse Brokers File (Chief Counsel).
CS .077 | Disciplinary Action, Grievances and Appeal Case Files.
CS .098 | Fines, Penalties, and Forfeitures Records.
CS .099 | Fines, Penalties, and Forfeiture Files (Supplemental Petitions).
CS .100 | Fines, Penalties, and Forfeiture Records (Headquarters).
CS .122 | Information Received File.
CS .125 | Intelligence Log.
CS .127 | Internal Affairs Records System.
CS .129 | Investigations Record System.
CS .133 | Justice Department Case File.
CS .138 | Litigation Issue Files.
CS .159 | Notification of Personnel Management Division when an employee is placed under investigation by the Office of Internal Affairs.
CS .171 | Pacific Basin Reporting Network.
CS .186 | Personnel Search.
CS .190 | Personnel Case File.
CS .197 | Private Aircraft/Vessel Inspection Reporting System.
CS .206 | Regulatory Audits of Customhouse Brokers.
CS .212 | Search/Arrest/Seizure Report.
CS .214 | Seizure File.
CS .224 | Suspect Persons Index.
CS .232 | Tort Claims Act File.
CS .244 | Treasury Enforcement Communications System (TECS).
CS .258 | Violator's Case Files.
CS .260 | Warehouse Proprietor Files.
CS .270 | Background-Record File of Non-Customs Employees.
CS .271 | Cargo Security Record System.
CS .285 | Automated Index to Central Investigative Files.

(v) Bureau of Engraving and Printing:

Number | System name
BEP .021 | Investigative files.

(vi) Federal Law Enforcement Training Center

(vii) Financial Management Service

(viii) Internal Revenue Service:

Number | System name
IRS 00.002 | Correspondence File-Inquiries about Enforcement Activities.
IRS 22.061 | Wage and Information Returns Processing (IRP).
IRS 26.001 | Acquired Property Records.
IRS 26.006 | Form 2209, Courtesy Investigations.
IRS 26.008 | IRS and Treasury Employee Delinquency.
IRS 26.011 | Litigation Case Files.
IRS 26.012 | Offer in Compromise (OIC) Files.
IRS 26.013 | One-hundred Per Cent Penalty Cases.
IRS 26.016 | Returns Compliance Programs (RCP).
IRS 26.019 | TDA (Taxpayer Delinquent Accounts).
IRS 26.020 | TDI (Taxpayer Delinquency Investigations) Files.
IRS 26.021 | Transferee Files.
IRS 26.022 | Delinquency Prevention Programs.
IRS 34.020 | IRS Audit Trail Lead Analysis System.
IRS 34.037 | IRS Audit Trail and Security Records System.
IRS 37.002 | Applicant Appeal Files.
IRS 37.003 | Closed Files Containing Derogatory Information about individuals' Practice before the IRS and Files of Attorneys and Certified Public Accountants Formerly Enrolled to Practice.
IRS 37.004 | Derogatory Information (No Action).
IRS 37.005 | Present Suspensions and Disbarments Resulting from Administrative Proceeding.
IRS 37.007 | Inventory.
IRS 37.009 | Resigned Enrolled Agents (action pursuant to 31 CFR Section 10.55(b)).
IRS 37.011 | Present Suspensions from Practice Before the Internal Revenue Service.
IRS 42.001 | Examination Administrative File.
IRS 42.008 | Audit Information Management System (AIMS).
IRS 42.012 | Combined Case Control Files.
IRS 42.016 | Classification and Examination Selection Files.
IRS 42.017 | International Enforcement Program Files.
IRS 42.021 | Compliance Programs and Projects Files.
IRS 42.029 | Audit Underreporter Case Files.
IRS 42.030 | Discriminant Function File (DIF) Appeals Case Files.
IRS 44.001 | Appeals Case Files.
IRS 46.050 | Automated Information Analysis System.
IRS 48.001 | Disclosure Records.
IRS 49.001 | Collateral and Information Requests System.
IRS 49.002 | Component Authority and Index Card Mircofilm Retrieval System.
IRS 49.007 | Overseas Compliance Projects System.
IRS 60.003 | Conduct Investigation Files.
IRS 60.006 | Enrollee Charge Investigation Files.
IRS 60.007 | Miscellaneous Information File.
IRS 60.009 | Special Inquiry Investigation Files.
IRS 90.002 | Chief Counsel Disclosure Litigation Division Case Files.
IRS 90.004 | Chief Counsel General Legal Services Case Files.
IRS 90.005 | Chief Counsel General Litigation Case Files.
IRS 90.009 | Chief Counsel Field Case Service Files.
IRS 90.010 | Digest Room Files Containing Briefs, Legal Opinions, Digests of Documents Generated Internally or by the Department of Justice Relating to the Administration of the Revenue Laws.
IRS 90.013 | Legal case files of the Chief Counsel, Deputy Chief Counsel, Associate Chief Counsels (Enforcement Litigation) and (technical).
IRS 90.016 | Counsel Automated Tracking System (CATS).

(ix) U.S. Mint:

Number | System name
Mint .008 | Criminal investigation files (formerly: Investigatory Files on Theft of Mint Property).

(x) Bureau of the Public Debt.

(xi) U.S. Secret Service:.

Number | System name
USSS .003 | Criminal Investigation Information System.
USSS .006 | Non-Criminal Investigation Information System.
USSS .007 | Protection Information System.

(xii) Office of Thrift Supervision:.

Number | System name
OTS .001 | Confidential Individual Information System.
OTS .004 | Criminal Referral Database.

(2) The Department hereby exempts the systems of records listed in paragraphs (g)(1)(i) through (xii) of this section from the following provisions of 5 U.S.C. 552a, pursuant to 5 U.S.C. 552a(k)(2): 5 U.S.C. 552a(c)(3), 5 U.S.C. 552a(d) (1), (2), (3), and (4), 5 U.S.C. 552a(e)(1), 5 U.S.C. 552a(e)(4)(G), (H), and (I), and 5 U.S.C. 552a(f).

(h) Reasons for exemptions under 5 U.S.C. 552a(k)(2). (1) 5 U.S.C. 552a(c)(3) requires an agency to make accountings of disclosures of a record available to the individual named in the record upon his or her request. The accountings must state the date, nature, and purpose of each disclosure of the record and the name and address of the recipient.

(i) The application of this provision would impair the ability of law enforcement agencies outside the Department of the Treasury to make effective use of information provided by the Department. Making accountings of disclosures available to the subjects of an investigation would alert them to the fact that another agency is conducting an investigation into their criminal activities and could reveal the geographic location of the other agency's investigation, the nature and purpose of that investigation, and the dates on which that investigation was active. Violators possessing such knowledge would be able to take measures to avoid detection or apprehension by altering their operations, by transferring their criminal activities to other geographical areas, or by destroying or concealing evidence that would form the basis for arrest. In the case of a delinquent account, such release might enable the subject of the investigation to dissipate assets before levy.

(ii) Providing accountings to the subjects of investigations would alert them to the fact that the Department has information regarding their criminal activities and could inform them of the general nature of that information. Access to such information could reveal the operation of the Department's information-gathering and analysis systems and permit violators to take steps to avoid detection or apprehension.

(2) 5 U.S.C. 552a(d)(1), (e)(4)(H) and (f)(2), (3) and (5) grant individuals access to records pertaining to them. The application of these provisions to the systems of records would compromise the Department's ability to provide useful tactical and strategic information to law enforcement agencies.

(i) Permitting access to records contained in the systems of records would provide individuals with information concerning the nature of any current investigations and would enable them to avoid detection or apprehension by:

(A) Discovering the facts that would form the basis for their arrest;

(B) Enabling them to destroy or alter evidence of criminal conduct that would form the basis for their arrest, and

(C) Using knowledge that criminal investigators had reason to believe that a crime was about to be committed, to delay the commission of the crime or commit it at a location that might not be under surveillance.

(ii) Permitting access to either on-going or closed investigative files would also reveal investigative techniques and procedures, the knowledge of which could enable individuals planning crimes to structure their operations so as to avoid detection or apprehension.

(iii) Permitting access to investigative files and records could, moreover, disclose the identity of confidential sources and informers and the nature of the information supplied and thereby endanger the physical safety of those sources by exposing them to possible reprisals for having provided the information. Confidential sources and informers might refuse to provide criminal investigators with valuable information unless they believed that their identities would not be revealed through disclosure of their names or the nature of the information they supplied. Loss of access to such sources would seriously impair the Department's ability to carry out its mandate.

(iv) Furthermore, providing access to records contained in the systems of records could reveal the identities of undercover law enforcement officers who compiled information regarding the individual's criminal activities and thereby endanger the physical safety of those undercover officers or their families by exposing them to possible reprisals.

(v) By compromising the law enforcement value of the systems of records for the reasons outlined in paragraphs (h)(2)(i) through (iv) of this section, permitting access in keeping with these provisions would discourage other law enforcement and regulatory agencies, foreign and domestic, from freely sharing information with the Department and thus would restrict the Department's access to information necessary to accomplish its mission most effectively.

(vi) Finally, the dissemination of certain information that the Department may maintain in the systems of records is restricted by law.

(3) 5 U.S.C. 552a(d)(2), (3) and (4), (e)(4)(H), and (f)(4) permit an individual to request amendment of a record pertaining to him or her and require the agency either to amend the record, or to note the disputed portion of the record and to provide a copy of the individual's statement of disagreement with the agency's refusal to amend a record to persons or other agencies to whom the record is thereafter disclosed. Since these provisions depend on the individual's having access to his or her records, and since these rules exempt the systems of records from the provisions of 5 U.S.C. 552a relating to access to records, for the reasons set out in paragraph (h)(2) of this section, these provisions should not apply to the systems of records.

(4) 5 U.S.C. 552a(e)(1) requires an agency to maintain in its records only such information about an individual as is relevant and necessary to accomplish a purpose of the agency required to be accomplished by statute or executive order. The term “maintain,” as defined in 5 U.S.C. 552a(a)(3), includes “collect” and “disseminate.” The application of this provision to the system of records could impair the Department's ability to collect and disseminate valuable law enforcement information.

(i) At the time that the Department collects information, it often lacks sufficient time to determine whether the information is relevant and necessary to accomplish a Department purpose.

(ii) In many cases, especially in the early stages of investigation, it may be impossible immediately to determine whether information collected is relevant and necessary, and information that initially appears irrelevant and unnecessary often may, upon further evaluation or upon collation with information developed subsequently, prove particularly relevant to a law enforcement program.

(iii) Not all violations of law discovered by the Department analysts fall within the investigative jurisdiction of the Department of the Treasury. To promote effective law enforcement, the Department will have to disclose such violations to other law enforcement agencies, including State, local and foreign agencies that have jurisdiction over the offenses to which the information relates. Otherwise, the Department might be placed in the position of having to ignore information relating to violations of law not within the jurisdiction of the Department of the Treasury when that information comes to the Department's attention during the collation and analysis of information in its records.

(5) U.S.C. 552a (e)(4)(G) and (f)(1) enable individuals to inquire whether a system of records contains records pertaining to them. Application of these provisions to the systems of records would allow individuals to learn whether they have been identified as suspects or subjects of investigation. As further described in the following paragraph, access to such knowledge would impair the Department's ability to carry out its mission, since individuals could:

(i) Take steps to avoid detection;

(ii) Inform associates that an investigation is in progress;

(iii) Learn the nature of the investigation;

(iv) Learn whether they are only suspects or identified as law violators;

(v) Begin, continue, or resume illegal conduct upon learning that they are not identified in the system of records; or

(vi) Destroy evidence needed to prove the violation.

(6) 5 U.S.C. 552a(e)(4)(I) requires an agency to publish a general notice listing the categories of sources for information contained in a system of records. The application of this provision to the systems of records could compromise the Department's ability to provide useful information to law enforcement agencies, since revealing sources for the information could:

(i) Disclose investigative techniques and procedures;

(ii) Result in threats or reprisals against informers by the subjects of investigations; and

(iii) Cause informers to refuse to give full information to criminal investigators for fear of having their identities as sources disclosed.

(i) Specific exemptions under 5 U.S.C. 552a(k)(3). (1) The head of any agency may promulgate rules to exempt any system of records within the agency from certain provisions of the Privacy Act of 1974 if it is maintained in connection with providing protective intelligence to the President of the United States or other individuals pursuant to section 3056 of Title 18. This paragraph applies to the following system of records maintained by the Department which contains material relating to criminal investigations concerned with the enforcement of criminal statutes involving the security of persons and property. Further, this system contains records described in 5 U.S.C. 552a(k) including, but not limited to, classified material and investigatory material compiled for law enforcement purposes, for which exemption is claimed under 5 U.S.C. 552a(k)(3):

U.S. Secret Service:

Number | System name
USSS .007 | Protection Information System.

(2) The Department hereby exempts the system of records listed in (i)(1) of this section from the following provisions of 5 U.S.C. 552a, pursuant to 5 U.S.C. 552a(k)(3): 5 U.S.C. 552a(c)(3), 5 U.S.C. 552a(d)(1), (2), (3),and (4), 5 U.S.C. 552a(e)(1), 5 U.S.C. 552a(e)(4)(G), (H), and (I), and 5 U.S.C. 552a(f).

(j) Reasons for exemptions under 5 U.S.C. 552a(k)(3). (1) 5 U.S.C. 552a(c)(3) requires an agency to make accountings of disclosures of a record available to the individual named in the record upon his or her request. The accountings must state the date, nature, and purpose of each disclosure of the record and the name and address of the recipient.

(i) The application of this provision would impair the ability of law enforcement agencies outside the Department of the Treasury to make effective use of information provided by the Department. Making accountings of disclosures available to the subjects of an investigation would alert them to the fact that another agency is conducting an investigation into their criminal activities and could reveal the geographic location of the other agency's investigation, the nature and purpose of that investigation, and the dates on which the investigation was active. Violators possessing such knowledge would be able to take measures to avoid detection or apprehension by altering their operations, by transferring their criminal activities to other geographical areas, or by destroying or concealing evidence that would form the basis for arrest.

(ii) Providing accountings to the subjects of investigations would alert them to the fact that the Department has information regarding their criminal activities and could inform them of the general nature of that information. Access to such information could reveal the operation of the Department's information-gathering and analysis systems and permit violators to take steps to avoid detection or apprehension.

(iii) The release of such information to the subject of a protective intelligence file would provide significant information concerning the nature and scope of an investigation, and could result in impeding or compromising the efforts of Department personnel to detect persons suspected of criminal activities or to collect information necessary for the proper evaluation of persons considered to be of protective interest.

(2) 5 U.S.C. 552a(d)(1), (e)(4)(H) and (f)(2), (3) and (5) grant individuals access to records pertaining to them. The application of these provisions to the systems of records would compromise the Department's ability to provide useful tactical and strategic information to law enforcement agencies.

(i) Permitting access to records contained in the systems of records would provide individuals with information concerning the nature of any current investigations and would enable them to avoid detection or apprehension by:

(A) Discovering the facts that would form the basis for their arrest;

(B) Enabling them to destroy or alter evidence of criminal conduct that would form the basis for their arrest, and

(C) Using knowledge that criminal investigators had reason to believe that a crime was about to be committed, to delay the commission of the crime or commit it at a location that might not be under surveillance.

(ii) Permitting access to either on-going or closed investigative files would also reveal investigative techniques and procedures, the knowledge of which could enable individuals planning crimes to structure their operations so as to avoid detection or apprehension.

(iii) Permitting access to investigative files and records could, moreover, disclose the identity of confidential sources, and informers and the nature of the information supplied and thereby endanger the physical safety of those sources by exposing them to possible reprisals for having provided the information. Confidential sources and informers might refuse to provide criminal investigators with valuable information unless they believed that their identities would not be revealed through disclosure of their names or the nature of the information they supplied. Loss of access to such sources would seriously impair the Department's ability to carry out its mandate.

(iv) Furthermore, providing access to records contained in the systems of records could reveal the identities of undercover law enforcement officers who compiled information regarding the individual's criminal activities and thereby endanger the physical safety of those undercover officers or their families by exposing them to possible reprisals.

(v) By compromising the law enforcement value of the systems of records for the reasons outlined in paragraphs (j)(2)(i) through (iv) of this section, permitting access in keeping with these provisions would discourage other law enforcement and regulatory agencies, foreign and domestic, from freely sharing information with the Department and thus would restrict the Department's access to information necessary to accomplish its mission most effectively.

(vi) Limitation on access to the materials contained in the protective intelligence files is considered necessary to the preservation of the utility of intelligence files and in safeguarding those persons the Department is authorized to protect. Access to the protective intelligence files could adversely affect the quality of information available to the Department; compromise confidential sources; hinder the ability of the Department to keep track of persons of protective interest; and interfere with the Department's protective intelligence activities by individuals gaining access to protective intelligence files.

(vii) Many of the persons on whom records are maintained in the protective intelligence files suffer from mental aberrations. Knowledge of their condition and progress comes from authorities, family members and witnesses. Many times this information comes to the Department as a result of two-party conversations where it would be impossible to hide the identity of informants. Sources of information must be developed, questions asked and answers recorded. Trust must be extended and guarantees of confidentiality and anonymity must be maintained. Allowing access of information of this kind to individuals who are the subjects of protective interest may well lead to violence directed against an informant by a mentally disturbed individual.

(viii) Finally, the dissemination of certain information that the Department may maintain in the systems of records is restricted by law.

(3) 5 U.S.C. 552a(d)(2), (3) and (4), (e)(4)(H), and (f)(4) permit an individual to request amendment of a record pertaining to him or her and require the agency either to amend the record, or to note the disputed portion of the record and to provide a copy of the individual's statement of disagreement with the agency's refusal to amend a record to persons or other agencies to whom the record is thereafter disclosed. Since these provisions depend on the individual's having access to his or her records, and since these rules exempt the systems of records from the provisions of 5 U.S.C. 552a relating to access to records, for the reasons set out in paragraph (j)(2) of this section, these provisions should not apply to the systems of records.

(4) 5 U.S.C. 552a(e)(1) requires an agency to maintain in its records only such information about an individual as is relevant and necessary to accomplish a purpose of the agency required to be accomplished by statute or executive order. The term “maintain,” as defined in 5 U.S.C. 552a(a)(3), includes “collect” and “disseminate.” The application of this provision to the systems of records could impair the Department's ability to collect and disseminate valuable law enforcement information.

(i) At the time that the Department collects information, it often lacks sufficient time to determine whether the information is relevant and necessary to accomplish a Department purpose.

(ii) In many cases, especially in the early stages of investigation, it may be impossible immediately to determine whether information collected is relevant and necessary, and information that initially appears irrelevant and unnecessary often may, upon further evaluation or upon collation with information developed subsequently, prove particularly relevant to a law enforcement program.

(iii) Not all violations of law discovered by the Department analysts fall within the scope of the protective intelligence jurisdiction of the Department of the Treasury. To promote effective law enforcement, the Department will have to disclose such violations to other law enforcement agencies, including State, local and foreign agencies, that have jurisdiction over the offenses to which the information relates. Otherwise, the Department might be placed in the position of having to ignore information relating to violations of law not within the jurisdiction of the Department of the Treasury when that information comes to the Department's attention during the collation and analysis of information in its records.

(5) U.S.C. 552a (e)(4)(G) and (f)(1) enable individuals to inquire whether a system of records contains records pertaining to them. Application of these provisions to the systems of records would allow individuals to learn whether they have been identified as suspects or subjects of investigation. As further described in the following paragraph, access to such knowledge would impair the Department's ability to carry out its mission to safeguard those persons the Department is authorized to protect, since individuals could:

(i) Take steps to avoid detection;

(ii) Inform associates that an investigation is in progress;

(iii) Learn the nature of the investigation;

(iv) Learn whether they are only suspects or identified as law violators;

(v) Begin, continue, or resume illegal conduct upon learning that they are not identified in the system of records; or

(vi) Destroy evidence needed to prove the violation.

(6) 5 U.S.C. 552a(e)(4)(I) requires an agency to publish a general notice listing the categories of sources for information contained in a system of records. The application of this provision to the systems of records could compromise the Department's ability to provide useful information to law enforcement agencies, since revealing sources for the information could:

(i) Disclose investigative techniques and procedures;

(ii) Result in threats or reprisals against informers by the subject(s) of a protective intelligence file; and

(iii) Cause informers to refuse to give full information to criminal investigators for fear of having their identities as sources disclosed.

(k) Specific exemptions under 5 U.S.C. 552a(k)(4). (1) Under 5 U.S.C. 552a(k)(4), the head of any agency may promulgate rules to exempt any system of records within the agency from certain provisions of the Privacy Act of 1974 if the system is required by statute to be maintained and used solely as statistical records. This paragraph applies to the following system of records maintained by the Department, for which exemption is claimed under 5 U.S.C. 552a(k)(4):

Internal Revenue Service:

Number | System name
IRS 70.001 | Statistics of Income-Individual Tax Returns.

(2) The Department hereby exempts the system of records listed in paragraph (k)(1) of this section from the following provisions of 5 U.S.C. 552a, pursuant to 5 U.S.C. 552a(k)(4): 5 U.S.C. 552a(c)(3), 5 U.S.C. 552a(d)(1), (2), (3), and (4), 5 U.S.C. 552a(e)(1), 5 U.S.C. 552a(e)(4)(G), (H), and (I), and 5 U.S.C. 552a(f).

(3) The system of records is maintained under section 6108 of the Internal Revenue Code, which provides that “the Secretary or his delegate shall prepare and publish annually statistics reasonably available with respect to the operation of the income tax laws, including classifications of taxpayers and of income, the amounts allowed as deductions, exemptions, and credits, and any other facts deemed pertinent and valuable.”

(l) Reasons for exemptions under 5 U.S.C. 552a(k)(4). The reason for exempting the system of records is that disclosure of statistical records (including release of accounting for disclosures) would in most instances be of no benefit to a particular individual since the records do not have a direct effect on a given individual.

(m) Specific exemptions under 5 U.S.C. 552a(k)(5). (1) Under 5 U.S.C. 552a(k)(5), the head of any agency may promulgate rules to exempt any system of records within the agency from certain provisions of the Privacy Act of 1974 if the system is investigatory material compiled solely for the purpose of determining suitability, eligibility, and qualifications for Federal civilian employment or access to classified information, but only to the extent that the disclosure of such material would reveal the identity of a source who furnished information to the Government under an express promise that the identity of the source would be held in confidence, or, prior to September 27, 1975, under an implied promise that the identity of the source would be held in confidence. Thus to the extent that the records in this system can be disclosed without revealing the identity of a confidential source, they are not within the scope of this exemption and are subject to all the requirements of the Privacy Act. This paragraph applies to the following systems of records maintained by the Department or one of its bureaus:

(i) Departmental Offices:

Number | System name
DO .004 | Personnel Security System.

(ii) Bureau of Alcohol, Tobacco and Firearms:

Number | System name
ATF .006 | Internal Security Record System.
ATF .007 | Personnel Record System.

(iii) Comptroller of the Currency:

(iv) U.S. Customs Service:

Number | System name
CS .127 | Internal Affairs Records.

(v) Bureau of Engraving and Printing:

Number | System name
BEP .004 | Personnel Security Files and Indices.

(vi) Federal Law Enforcement Training Center

(vii) Financial Management Service

(viii) Internal Revenue Service:

Number | System name
IRS 34.021 | Personnel Security Investigations, National Background Investigations Center.
IRS 36.008 | Recruiting, Examining and Placement Records.
IRS 90.003 | Chief Counsel General Administrative Systems.
IRS 90.011 | Attorney Recruiting Files.

(ix) U.S. Mint

(x) Bureau of the Public Debt

(xi) U.S. Secret Service

(xii) Office of Thrift Supervision

(2) The Department hereby exempts the systems of records listed in paragraphs (m)(1)(i) through (xii) of this section from the following provisions of 5 U.S.C. 552a, pursuant to 5 U.S.C. 552a(k)(5): 5 U.S.C. 552a(c)(3), 5 U.S.C. 552a(d)(1), (2), (3), and (4), 5 U.S.C. 552a(e)(1), 5 U.S.C. 552a(e)(4)(G), (H), and (I), and 5 U.S.C. 552a(f).

(n) Reasons for exemptions under 5 U.S.C. 552a(k)(5). (1) The sections of 5 U.S.C. 552a from which the systems of records are exempt include in general those providing for individuals' access to or amendment of records. When such access or amendment would cause the identity of a confidential source to be revealed, it would impair the future ability of the Department to compile investigatory material for the purpose of determining suitability, eligibility, or qualifications for Federal civilian employment, Federal contracts, or access to classified information. In addition, the systems shall be exempt from 5 U.S.C. 552a(e)(1) which requires that an agency maintain in its records only such information about an individual as is relevant and necessary to accomplish a purpose of the agency required to be accomplished by statute or executive order. The Department believes that to fulfill the requirements of 5 U.S.C. 552a(e)(1) would unduly restrict the agency in its information gathering inasmuch as it is often not until well after the investigation that it is possible to determine the relevance and necessity of particular information.

(2) If any investigatory material contained in the above-named systems becomes involved in criminal or civil matters, exemptions of such material under 5 U.S.C. 552a (j)(2) or (k)(2) is hereby claimed.

(o) Exemption under 5 U.S.C. 552a(k)(6). (1) Under 5 U.S.C. 552a(k)(6), the head of any agency may promulgate rules to exempt any system of records that is testing or examination material used solely to determine individual qualifications for appointment or promotion in the Federal service the disclosure of which would compromise the objectivity or fairness of the testing or examination process. This paragraph applies to the following system of records maintained by the Department, for which exemption is claimed under 5 U.S.C. 552a(k)(6):

Internal Revenue Service:

Number | System name
IRS 36.008 | Recruiting, Examining and Placement Records.

(2) The Department hereby exempts the system of records listed in paragraph (o)(1) of this section from the following provisions of 5 U.S.C. 552a, pursuant to 5 U.S.C. 552a(k)(6): 5 U.S.C. 552a(c)(3), 5 U.S.C. 552a(d)(1), (2), (3), and (4), 5 U.S.C. 552a(e)(1), 5 U.S.C. 552a(e)(4)(G), (H), and (I), and 5 U.S.C. 552a(f).

(p) Reasons for exemptions under 5 U.S.C. 552a(k)(6). The reason for exempting the system of records is that disclosure of the material in the system would compromise the objectivity or fairness of the examination process.

(q) Exempt information included in another system. Any information from a system of records for which an exemption is claimed under 5 U.S.C. 552a(j) or (k) which is also included in another system of records retains the same exempt status such information has in the system for which such exemption is claimed.

[FR Doc. 00-29673 Filed 11-20-00; 8:45 am]

BILLING CODE 4810-25-P